COMMISSION ON CIVIL RIGHTS

Notice of Public Meeting of the Louisiana Advisory Committee to the U.S. Commission on Civil Rights; Cancellation

AGENCY: U.S. Commission on Civil Rights.

ACTION: Notice; Cancellation of Meeting.

SUMMARY: The U.S. Commission on Civil Rights published a notice in the Federal Register concerning a meeting of the Louisiana Advisory Committee. The meeting, scheduled for Monday, February 2, 2026, at 10:00 a.m. CT, has been cancelled because the Committee concluded its work. The notice is in the Federal Register on Friday September 12, 2025, in FR Document Number 2025-17579 on pages 44160-44161.

FOR FURTHER INFORMATION CONTACT: Corrine Sanders, Support Services Specialist, at csanders@usccr.gov or (202) 768-5474.

Dated: January 30, 2026.
David Mussatt,
Supervisory Chief, Regional Programs Unit.

[FR Doc. 2026-02200 Filed 2-2-26; 8:45 am]

BILLING CODE P